SECURITIES AND EXCHANGE COMMISSION

[File No. 500-1]

In the Matter of Digital Gas, Inc.; Order of Suspension of Trading

November 17, 2006.

It appears to the Securities and Exchange Commission that there is a lack of current and accurate information concerning the securities of Digital Gas, Inc. (“Digital”), because of questions raised regarding the accuracy and adequacy of publicly disseminated information concerning, among other things, Digital's announced agreement with Techno Rubber, Inc. and Digital's assets.

The Commission is of the opinion that the public interest and the protection of investors require a suspension of trading in the securities of the above-listed company.

Therefore, it is ordered, pursuant to Section 12(k) of the Securities Exchange Act of 1934, that trading in the above-listed company is suspended for the period from 9:30 a.m. EST, November 17, 2006, through 11:59 p.m. EST, on December 4, 2006.

By the Commission.
Nancy M. Morris,
Secretary.

[FR Doc. 06-9332 Filed 11-17-06; 11:31 am]

BILLING CODE 8011-01-P